DEPARTMENT OF THE INTERIOR

Bureau of Land Management

[LLCAC09000, 16100000.DQ; CACA 051408]

Public Land Order No. 7795; Withdrawal of Public Lands, Clear Creek Serpentine Area of Critical Environmental Concern; California

AGENCY: Bureau of Land Management, Interior.

ACTION: Public Land Order.

SUMMARY: This order withdraws 28,727 acres, more or less, of public lands from location and entry under the United States mining laws for a period of 20 years, to minimize impacts to human health, safety, and the environment from hazardous emissions of airborne asbestos fibers within the Clear Creek Serpentine Area of Critical Environmental Concern. In addition, approximately 3,889 acres of non-Federal lands located inside of the boundary of the withdrawal area, if acquired by or returned to the United States, will also be included in the withdrawal. The withdrawal will have no effect on the non-Federal lands until such time as title passes to the United States.

DATES: Effective Date: August 7, 2012.

FOR FURTHER INFORMATION CONTACT: Christine Sloand, Realty Specialist, Bureau of Land Management (BLM), Hollister Field Office, 20 Hamilton Court, Hollister, California 95023, 831-630-5022 or via email at csloand@blm.gov. Persons who use a telecommunications device for the deaf (TDD) may call the Federal Information Relay Services (FIRS) at 1-800-877-8339 to contact the above individual. The FIRS is available 24 hours per day, 7 days per week, to leave a message or question with the above individual. You will receive a reply during normal business hours.

SUPPLEMENTARY INFORMATION: The BLM ordered the temporary closure of the public lands in the Clear Creek Serpentine Area of Critical Environmental Concern on May 1, 2008 (72 FR 24087 (2008)), in response to a human health risk assessment by the United States Environmental Protection Agency that concluded “public use activities could expose an individual to excess lifetime cancer risks.”

Order

By virtue of the authority vested in the Secretary of the Interior by Section 204 of the Federal Land Policy and Management Act of 1976, 43 U.S.C. 1714, it is ordered as follows:

1. Subject to valid existing rights, the following-described public lands are hereby withdrawn from location and entry under the United States mining laws (30 U.S.C. Ch. 2), to minimize impacts to human health, safety, and the environment from hazardous emissions of airborne asbestos fibers within the Clear Creek Serpentine Area of Critical Environmental Concern.

(a) Federal Lands

Mount Diablo Meridian

T. 17 S., R. 11 E.,

Sec. 25, lots 5, 6, and lots 10 to 15, inclusive;

Sec. 26, lots 15, 16, and 20;

Sec. 34, lots 16, 18, and 19, and Mineral Survey No. 5253, not patented;

Sec. 35, lots 13 to 24, inclusive, Mineral Survey No. 5062, portions of Mineral Survey Nos. 5251, 5252 and 5957;

Sec. 36, lots 10 to 16, inclusive.

T. 18 S., R. 11 E.,

Sec. 1;

Sec. 2, lots 1 to 9, inclusive, S½N½, NW¼SW¼, and N½SE¼;

Sec. 3, S½NE¼, SE¼SW¼, and SE¼;

Sec. 10, E½ and E½W½;

Sec. 11, lots 1 to 4, inclusive, SW¼NE¼, W½, NW¼SE¼, and S½SE¼;

Sec. 12, lots 1 to 5, inclusive, E½, NE¼SW¼, and S½SW¼;

Sec. 13, lots 1 to 5, inclusive, NW¼NW¼, S½NW¼, and S½;

Sec. 14;

Sec. 15, NE¼, E½NW¼, NE¼SW¼, and N½SE¼;

Sec. 23, N½NE¼, SE¼NE¼, and NE¼NW¼;

Sec. 24, N½ and SE¼.

T. 17 S., R. 12 E.,

Sec. 31, lots 3, 4, and lots 6 to 20, inclusive;

Sec. 32, lots 11 to 14, inclusive, and lot 16;

Sec. 33, W½W½ and SE¼SW¼.

T. 18 S., R. 12 E.,

Sec. 3, SW¼NW¼, W½SW¼, and SE¼SW¼;

Sec. 4, lots 1 to 17, inclusive, SW¼NW¼, SW¼, and S½SE¼;

Secs. 5, 6, and 7;

Sec. 8, lots 1, 2, 4, 5, 7, 8, 9, 11, and 12, NW¼SW¼, and S½SW¼;

Secs. 9 and 10;

Sec. 11, lots 2, 3, and 4, and SE¼;

Sec. 12, SW¼;

Sec. 13, lots 2 to 6, inclusive, lot 8, W½NE¼, NW¼, N½SW¼, and NW¼SE¼;

Secs. 14 and 15;

Sec. 17, lots 1 and 2, NE¼, NE¼NW¼, W½NW¼, and E½SE¼;

Sec. 18, lots 1 to 14, inclusive, and N½NE¼;

Sec. 19, lots 1 to 6, inclusive, S½NE¼, E½W½, and SE¼;

Sec. 20, E½, S½NW¼, and SW¼;

Sec. 21, N½;

Sec. 22, NE¼NE¼, S½NE¼, NW¼, and S½;

Secs. 23 and 24;

Sec. 25, lot 1, lots 3 to 6, inclusive, lots 8, 9, 11, and 14, W½, and W½SE¼;

Sec. 26, N½;

Sec. 27, N½, N½S½, and S½SE¼;

Sec. 28, NE¼ and SE¼NW¼;

Sec. 29, N½N½;

Sec. 30, lot 1 and NE¼NE¼;

Sec. 34, NE¼NE¼;

Sec. 35, N½, NE¼SW¼, and N½SE¼.

T. 18 S., R. 13 E.,

Sec. 16, NW¼SW¼;

Sec. 17, SW¼NE¼ and S½;

Sec. 18, lots 2, 3, and 4, and E½SE¼;

Sec. 19, lots 1 to 4, inclusive, and E½E½;

Secs. 20 and 21;

Sec. 22, NW¼NW¼, NE¼SW¼, and S½SW¼;

Sec. 27, NW¼NE¼, NE¼NW¼, SW¼NW¼, W½SW¼, S½SE¼SW¼, and S½S½SE¼;

Secs. 28 to 31, inclusive;

Sec. 32, all excluding Mineral Survey Nos. 6696 and 6724, both patented;

Sec. 33, all excluding that portion of Mineral Survey Nos. 6680, patented and contained therein;

Sec. 34, N½ and N½S½ excluding that portion of Mineral Survey No. 6680, patented and contained therein;

Sec. 35, N½N½NW¼.

T. 19 S., R. 13 E.,

Sec. 2, lot 4 and SW¼NW¼;

Sec. 3, lots 1 to 4, inclusive, S½N½, and SW¼;

Sec. 4, lots 1 to 4, inclusive, S½N½, and S½;

Sec. 5, lots 1 to 4, inclusive, S½N½, N½S½, and SE¼SE¼;

Sec. 6, lot 1 and SE¼NE¼.

The areas described aggregate 28,727 acres, more or less, in Fresno and San Benito Counties.

(b) Non-Federal Lands

The following described non-Federal lands are located within the boundaries of the withdrawal. In the event that these non-Federal lands return to public ownership, they would be subject to the terms and conditions described above.

Mount Diablo Meridian

T. 18 S., R. 11 E.,

Sec. 2, portion of Mineral Survey No. 29, patented;

Sec. 11, portion of Mineral Survey No. 29, patented, portion of Mineral Survey No. 504, patented;

Sec. 12, portion of Mineral Survey No. 29, patented, portion of Mineral Survey No. 504, patented;

Sec. 13, portion of Mineral Survey No. 1417, patented.

T. 18 S., R. 12 E.,

Sec. 4, Mineral Survey Nos. 1087, 1099, and 1185, patented;

Sec. 7, portion of Mineral Survey No. 1417, patented;

Sec. 8, lots 3, 6, and 10, and NE¼SW¼;

Sec. 13, lot 7, S½SW¼, and SW¼SE¼;

Sec. 16;

Sec. 17, SE¼NW¼, E½SW¼, and W½SE¼, portion of Mineral Survey No. 1418, patented;

Sec. 18, portion of Mineral Survey No. 1417, patented, portion of Mineral Survey No. 1418, patented;

Sec. 19, portion of Mineral Survey No. 1417, patented, portion of Mineral Survey No. 1418, patented;

Sec. 20, lot 1, NE¼NW¼, and portion of Mineral Survey No. 1418, patented;

Sec. 22, NW¼NE¼;

Sec. 25, lots 2, 7, 10, 12, and 13, and Mineral Survey No. 4976, patented;

Sec. 26, S½;

Sec. 36.

T. 18 S., R. 13 E.,

Sec. 32, Mineral Survey Nos. 6696 and 6724, both patented;

Sec. 33, portion of Mineral Survey No. 6680, patented;

Sec. 34, portion of Mineral Survey No. 6680, patented;

Sec. 34, S½S½.

The areas described aggregate 3,889 acres, more or less, in Fresno and San Benito Counties.

2. The withdrawal made by this order does not alter the applicability of those public land laws governing the use of lands under lease, license, or permit, or governing the disposal of their mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: August 1, 2012.
David J. Hayes,
Deputy Secretary.

[FR Doc. 2012-19242 Filed 8-2-12; 4:15 pm]

BILLING CODE 4310-40-P